DEPARTMENT OF HOMELAND SECURITY

Coast Guard

46 CFR Parts 1, 10, 11, 12, 13, 14, and 15

[Docket No. USCG-2004-17914]

Implementation of the 2010 Amendments to the International Convention on Standards of Training, Certification and Watchkeeping for Seafarers, 1978—Hours of Rest and Security-Related Training

AGENCY: Coast Guard, DHS.

ACTION: Notice of policy.

SUMMARY: The Coast Guard announces steps for implementing the 2010 amendments to the International Convention on Standards of Training, Certification and Watchkeeping for Seafarers, 1978, as amended, (STCW) concerning hours of rest and security-related training requirements. Because the final rule implementing the 2010 amendments to the STCW will not be published before the 1 January 2012 entry into force date, there is a need to provide guidance on implementation of the amendments related to these requirements, which will impact U.S. vessels and seafarers beginning on 1 January 2012. This notice applies to all vessels subject to STCW under current regulations.

DATES: This policy is effective January 1, 2012.

ADDRESSES: This notice is available in the docket and can be viewed by going to http://www.regulations.gov, inserting USCG-2004-17914 in the “Keyword” box, and then clicking “Search.” You may also visit the Docket Management Facility in Room W12-140 on the ground floor of the Department of Transportation West Building, 1200 New Jersey, Avenue SE., Washington, DC 20590, between 9 a.m. and 5 p.m., Monday through Friday, except Federal holidays.

FOR FURTHER INFORMATION CONTACT: If you have questions on this notice, call or email Mrs. Mayte Medina, Office of Vessel Activities (CG-522), (202) 372-1406, email Mayte.Medina2@uscg.mil. If you have questions on viewing or submitting material to the docket, call Renee V. Wright, Program Manager, Docket Operations, telephone (202) 366-9826.

SUPPLEMENTARY INFORMATION:

Background and Purpose

The International Convention on Standards of Training, Certification and Watchkeeping for Seafarers, 1978 as amended, (STCW) sets forth minimum training and hours of rest requirements for merchant mariners. In 2007, the IMO embarked on a comprehensive review of the entire STCW Convention and STCW Code, which sets forth provisions for implementing the STCW Convention. The Parties adopted these amendments on June 25, 2010 at the STCW Diplomatic Conference in Manila, Philippines. The amendments are scheduled to enter into force for all ratifying countries on January 1, 2012. The 2010 amendments include security training and certification requirements for vessel personnel working on board vessels; and changes to the hours of rest requirements applicable to personnel working on board U.S. vessels.

The Convention is not self-implementing; therefore, the United States, as a signatory to the STCW Convention, must initiate regulatory changes to ensure full implementation of the amendments to the STCW Convention and STCW Code. The United States implements these provisions under the Convention and under the authority of United States domestic laws at United States Code titles 5, 14, 33, and 46.

The Coast Guard published a Supplemental Notice of Proposed Rulemaking (SNPRM) on August 1, 2011 (76 FR 45908), proposing changes to implement the STCW Convention and Code, to address the comments received from the public in response to the Notice of Proposed Rulemaking (NPRM) published on November 17, 2009 (74 FR 59354), and to incorporate the 2010 amendments to the STCW Convention that will come into force on January 1, 2012. The public comment period for the SNPRM ended on September 30, 2011. The Coast Guard will be publishing a final rule (FR) to implement amendments to the STCW, including the 2010 amendments, and ensure that the U.S. is meeting its obligations under the Convention. The comments received will be discussed in the final rule.

Discussion

This notice applies to all vessels subject to STCW under current regulations. This includes all seagoing vessels, as defined in 46 CFR 15.1101, meaning self-propelled vessels engaged in commercial service that operate beyond the Boundary Line established by 46 CFR part 7, except those vessels that have been determined to be otherwise exempt from, or not subject to further obligation of, STCW under 46 CFR 15.103(e) and (f).

Although full implementation of the hours of rest and security training requirements necessitate regulatory changes, the Coast Guard is issuing this notice to implement mechanisms to lessen the port state control impact on United States vessels while operating abroad, and while the Coast Guard publishes the final rule.

Hours of Rest

The 2010 amendments to the STCW Convention and Code amended the rest hours requirements as follows: (1) Expanded the application for hours of work and rest periods for mariners to include all personnel with designated safety, prevention of pollution, and security duties onboard any vessel; (2) changed the weekly rest hours requirements from 70 hours to 77 hours; and (3) required the recording of hours of rest.

Full implementation of these amendments will require regulatory changes to 46 CFR 15.1111. The Coast Guard will not be enforcing these STCW requirements until the regulations are published. Vessels operating in foreign ports are encouraged to implement these requirements to avoid any potential port state control detentions. Hours of rest for each crewmember can be documented in the vessel logbook.

Security Training Requirements

The STCW Convention requires that mariners who commenced service after 1 January 2012 meet the training requirements for vessel personnel with designated security duties and security awareness, as appropriate. In addition, the STCW Convention also provides transitional provisions for mariners who started service prior to 1 January 2012. Recognizing that the implementation date is fast approaching, and that there may be practical difficulties for all seafarers with security related requirements to obtain necessary certifications and/or the necessary endorsements required in accordance with regulation VI/6 of the 2010 Manila Amendments, the IMO issued Circular STCW.7/Circ.17. The Circular provides advice for port State control officers on transitional arrangements leading up to full implementation of the 2010 Manila Amendments on 1 January 2017. The Circular also recommends that Administrations inform their port State control authorities that, until 1 January 2014, it would be sufficient to accept compliance with section 13 of the International Ship and Port Facility Security (ISPS) Code, even if a seafarer's documentation with regard to the security-related training in regulation VI/6 is not in accordance with the 2010 Manila Amendments.

Taking the information in the Circular into account, the Coast Guard has determined that the requirements in 33 CFR 104.220 (vessel personnel with security duties) and 104.225 (security training for all other personnel) meet the requirements of Section 13 of the ISPS Code. Therefore, the Coast Guard will continue to enforce 33 CFR 104.220 and 104.225, and the requirements in Section 13 of the ISPS Code.

Vessels operating in foreign ports should ensure that all personnel, except for the vessel security officer (VSOs), working on board the vessel are in possession of the appropriate course completion certificate or a company letter as proof of meeting the requirements in 33 CFR 104.220 or 104.225, and Section 13 of the ISPS Code. VSOs must hold the appropriate endorsement on their credential.

This notice is issued under authority of 5 U.S.C. 552(a), 46 U.S.C. 8304, 33 CFR part 104, 46 CFR parts 10, 11, 12, and 15, and 33 CFR 1.05-1.

Dated: December 28, 2011.
J.G. Lantz,
Director of Commercial Regulations and Standards, U.S. Coast Guard.

[FR Doc. 2011-33818 Filed 12-30-11; 4:15 pm]

BILLING CODE 9110-04-P